SECURITIES AND EXCHANGE COMMISSION

[Release No. 34-78367; File No. SR-NYSEMKT-2016-49]

Self-Regulatory Organizations; NYSE MKT LLC; Notice of Withdrawal of Proposed Rule Change Amending the Definition of “Block” for Purposes of Rule 72(d)—Equities and the Size of a Proposed Cross Transaction Eligible for the Cross Function in Rule 76—Equities

July 20, 2016.

On April 22, 2016, NYSE MKT LLC (“Exchange” or “NYSE MKT”) filed with the Securities and Exchange Commission (“Commission”), pursuant to Section 19(b)(1) of the Securities Exchange Act of 1934 (“Act”) ¹ and Rule 19b-4 thereunder,² a proposed rule change to amend its rules relating to pre-opening indications and opening procedures. The proposed rule change was published for comment in the Federal Register on May 3, 2016.³ The Commission received no comments on the proposed rule change. On May 31, 2016, pursuant to Section 19(b)(2) of the Act,⁴ the Commission designated a longer period within which to approve the proposed rule change, disapprove the proposed rule change, or institute proceedings to determine whether to disapprove the proposed rule change.⁵ On July 18, 2016, the Exchange withdrew the proposed rule change (File No. SR-NYSEMKT-2016-49).

¹ 15 U.S.C. 78s(b)(1).

² 17 CFR 240.19b-4.

³ See Securities Exchange Act Release No. 77734 (Apr. 27, 2016), 81 FR 26598.

⁴ 15 U.S.C. 78s(b)(2).

⁵ See Securities Exchange Act Release No. 77951, 81 FR 36367 (June 6, 2016). The Commission designated August 1, 2016, as the date by which it should approve, disapprove, or institute proceedings to determine whether to disapprove the proposed rule change.

For the Commission, by the Division of Trading and Markets, pursuant to delegated authority.⁶
⁶ 17 CFR 200.30-3(a)(12).
Robert W. Errett,
Deputy Secretary.

[FR Doc. 2016-17573 Filed 7-25-16; 8:45 am]

BILLING CODE 8011-01-P